DEPARTMENT OF COMMERCE

National Oceanic and Atmospheric Administration

[RTID 0648-XA139]

Atlantic Highly Migratory Species; Meeting of the Atlantic Highly Migratory Species Advisory Panel

AGENCY: National Marine Fisheries Service (NMFS), National Oceanic and Atmospheric Administration (NOAA), Commerce.

ACTION: Notice of meeting.

SUMMARY: NMFS will hold a 1-day Atlantic Highly Migratory Species (HMS) Advisory Panel (AP) meeting via webinar in May 2020. The intent of the meeting is to consider options for the conservation and management of Atlantic HMS. The meeting is open to the public.

DATES: The AP meeting and webinar will be held from 8:45 a.m. to 3:30 p.m. on Tuesday, May 19, 2020.

ADDRESSES: The meeting on Tuesday, May 21, will be accessible via conference call and webinar. Conference call and webinar access information are available at: https://www.fisheries.noaa.gov/event/may-2020-hms-advisory-panel-meeting.

Participants are strongly encouraged to log/dial in 15 minutes prior to the meeting. NMFS will show the presentations via webinar and allow public comment during identified times on the agenda.

FOR FURTHER INFORMATION CONTACT: Peter Cooper at (301) 427-8503.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any FMP or FMP amendment for Atlantic HMS. NMFS consults with and considers the comments and views of AP members when preparing and implementing FMPs or FMP amendments for Atlantic tunas, swordfish, billfish, and sharks. The AP has previously consulted with NMFS on all Atlantic HMS FMPs and FMP amendments since the inception of the AP in 1998.

Generally AP meetings are held in-person, but because of current restrictions on travel and public gatherings this AP meeting will be conducted via webinar. The intent of this meeting is to consider alternatives for the conservation and management of all Atlantic tunas, swordfish, billfish, and shark fisheries. We anticipate discussing:

• Draft Amendment 12, which would update the 2006 Consolidated HMS FMP using revised National Standard guidelines;

• A proposed rule and Environmental Assessment to modify shark and swordfish retention limits;

• Updates on the bluefin tuna fishery and Amendment 13 (bluefin tuna).

We also anticipate inviting other NMFS offices and the United States Coast Guard to provide updates, if available, on their activities relevant to HMS fisheries.

Additional information on the meeting and a copy of the draft agenda will be posted prior to the meeting at: https://www.fisheries.noaa.gov/event/may-2020-hms-advisory-panel-meeting.

Dated: April 30, 2020.
Hélène M.N. Scalliet,
Acting Director, Office of Sustainable Fisheries, National Marine Fisheries Service.

[FR Doc. 2020-09628 Filed 5-5-20; 8:45 am]

BILLING CODE 3510-22-P